DEPARTMENT OF HOUSING AND URBAN DEVELOPMENT

[Docket No. FR-5756-N-21]

60-Day Notice of Proposed Information Collection: Office of Housing Counseling Performance Review

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 15, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Cheryl Appline, Director, Office of Oversight and Accountability (OOA), Office of Housing Counseling, Department of Housing and Urban Development, Five Points Plaza Building, 40 Marietta Street, Atlanta, GA 30303; telephone 678-732-2696 (this is not a toll-free number) or email at Cheryl.W.Appline@hud.gov.

Copies of available documents submitted to OMB may be obtained from Ms. Appline.

SUPPLEMENTARY INFORMATION: This notice informs the public that HUD is seeking approval from OMB for the information collection described in Section A.

A. Overview of Information Collection

Title of Information Collection: Office of Housing Counseling Performance Review.

OMB Approval Number: 2502-0574.

Type of Request: Extension.

Form Number: HUD 9910.

Description of the need for the information and proposed use: HUD Office of Housing Counseling participating agencies are non-profit and government organizations that provide housing counseling services. The information collected allows HUD to monitor and provide oversight for agencies participating in the Housing Counseling Program. Specifically, the information collected is used to ensure that participating agencies comply with program policies and regulations and to determine if agencies remain eligible to provide counseling services under HUD's Housing Counseling Program. Housing counseling aids tenants, potential home buyers and homeowners in improving their housing conditions and in meeting the responsibilities of tenancy and homeownership.

Respondents (i.e. affected public): Not-for-profit institutions.

Estimated Number of Respondents: 455.

Estimated Number of Responses: 455.

Frequency of Response: 1.

Average Hours per Response: 9.5.

Total Estimated Burdens: 4323.

B. Solicitation of Public Comment

This notice is soliciting comments from members of the public and affected parties concerning the collection of information described in Section A on the following: (1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Date: June 10, 2014.
Laura M. Marin,
Associate General Deputy Assistant Secretary for Housing-Associate Deputy Federal Housing Commissioner.

[FR Doc. 2014-14008 Filed 6-13-14; 8:45 am]

BILLING CODE 4210-67-P